DEPARTMENT OF ENERGY

Federal Energy Regulatory Commission

[Project No. 2197-073; Project No. 2206-030]

Alcoa Power Generating, Inc., North Carolina; Progress Energy Carolinas, North Carolina; Notice of Public Meetings on Draft Environmental Impact Statement

October 23, 2007.

The Federal Energy Regulatory Commission (Commission) hereby gives notice that members of its staff will conduct two public meetings on the draft environmental impact statement (DEIS) for the Yadkin Hydroelectric Project and the Yadkin-Pee Dee River Hydroelectric Project. The times and locations of these meetings are as follows:

Yadkin Project Meeting

Date: November 14, 2007.

Time: 7 to 9:30 p.m. (EST).

Place: James Varick Auditorium.

Address: Livingstone College, 701 West Monroe Street, Salisbury, NC 28144.

Yadkin-Pee Dee Project Meeting

Date: November 15, 2007.

Time: 7 to 9:30 p.m. (EST).

Place: Cole Auditorium.

Address: Richmond Community College, 1042 West Hamlet Ave., Hamlet, NC 28345.

The purpose of these meetings is to solicit comments on the DEIS prepared for the relicensing applications of the Yadkin and Yadkin-Pee Dee River Projects. The DEIS was issued and publicly noticed on September 28, 2007, and is available for review on the Commission's Web site at http://www.ferc.gov, using the “eLibrary” link. Enter the docket number (either P-2197or P-2206) to access the document. For assistance, contact FERC Online Support at FERCOnlineSupport@ferc.gov or toll-free at 1-866-208-3676, or for TTY, (202) 502-8659.

The Yadkin Project is located on the Yadkin River in Davidson, Davie, Montgomery, Rowan, and Stanly Counties, North Carolina. The Yadkin-Pee Dee River Project is located on the Yadkin and Pee Dee Rivers in Anson, Montgomery, Richmond, and Stanly Counties, North Carolina. There are no federal lands affected by these projects.

These meetings are open to the public. All local, state, and federal agencies, Indian Tribes, and other interested parties are invited to participate. Transcripts of the meetings will be prepared.

The deadline for filing comments on the DEIS is December 8, 2007. Comments should be filed with: Kimberly D. Bose, Secretary, Federal Energy Regulatory Commission, 888 First Street, NE., Washington, DC 20426. Comments should reference either Project No. 2197-073 (Yadkin Project) or Project No. 2206-030 (Yadkin-Pee Dee River Project). Comments may be filed electronically via the Internet in lieu of paper. The Commission strongly encourages electronic filings. See 18 CFR 385.2001(a)(1)(iii) and instructions on the Commission's Web site at http://www.ferc.gov under the eLibrary link.

For further information, contact Stephen Bowler at (202) 502-6861 or stephen.bowler@ferc.gov or Lee Emery at (202) 5028379 or lee.emery@ferc.gov.

Kimberly D. Bose,
Secretary.

[FR Doc. E7-21232 Filed 10-25-07; 8:45 am]

BILLING CODE 6717-01-P